FEDERAL COMMUNICATIONS COMMISSION

47 CFR Parts 2, 25, and 87

[ET Docket No. 02-305; FCC 03-269]

World Radiocommunication Conferences Concerning Frequency Bands Above 28 MHz

AGENCY: Federal Communications Commission.

ACTION: Final rule.

SUMMARY: This document amends our rules to implement domestically various allocation decisions from several World Radiocommunication Conferences (“WRCs”) concerning the frequency bands between 28 MHz and 36 GHz, and to otherwise update our rules in this frequency range. The following actions are the most significant to non-Federal government operations: Implementation of generic mobile-satellite service (“MSS”) allocations in the bands 1525-1559 MHz and 1626.5-1660.5 MHz (“L-band”); allocation of the band 1164-1215 MHz to the radionavigation-satellite service (“RNSS”); deletion of unused and limited fixed-satellite service (“FSS”) and broadcasting-satellite service (“BSS”) allocations from the band 2500-2690 MHz; and upgrade of the Earth exploration-satellite service (“EESS”) allocation in the band 25.5-27 GHz from secondary to primary. In addition, at the request of the National Telecommunications and Information Administration (“NTIA”), we implement various allocation changes for the space science services and the inter-satellite service (“ISS”), most of which involve spectrum primarily used by the Federal government. These actions conform our rules to previous WRC decisions and are expected to provide significant benefits to the American public.

DATES: Effective January 22, 2004.

FOR FURTHER INFORMATION CONTACT: Rodney Small, Office of Engineering and Technology, (202) 418-2452, TTY (202) 418-2989, e-mail Rodney.Small@fcc.gov.

SUPPLEMENTARY INFORMATION: This is a summary of the Commission's Report and Order, ET Docket No. 02-305, FCC 03-269, adopted October 31, 2003, and released November 4, 2003. The full text of this document is available on the Commission's Internet site at www.fcc.gov. It is also available for inspection and copying during regular business hours in the FCC Reference Center (Room CY-A257), 445 12th Street, SW., Washington, DC 20554. The full text of this document also may be purchased from the Commission's duplication contractor, Qualex International, Portals II, 445 12th St., SW., Room CY-B402, Washington, DC 20554; telephone (202) 863-2893; fax (202) 863-2898; e-mail qualexint@aol.com.

Summary of the Report and Order

1. In the R&O, we provided for generic MSS allocations across all of the frequencies in the bands 1525-1559 MHz and 1626.5-1660.5 MHz. Specifically, we expanded the primary allocation in the bands 1545-1549.5 MHz, 1558.5-1559 MHz, 1646.5-1651 MHz, and 1660-1660.5 MHz from the aeronautical mobile-satellite (route) service (“AMS(R)S”) to all services within the MSS while preserving the status of AMS(R)S. The effect of this action is that the bands 1545-1559 MHz and 1646.5-1660.5 MHz will be made available to all types of MSS communications on a primary basis, rather than segmented for specialized use. This action permits more efficient use of this radio spectrum and facilitates the expansion of MSS use globally. In addition, we deleted the existing primary maritime mobile-satellite service (“MMSS”) and MSS allocations in the bands 1530-1544 MHz and 1626.5-1645.5 MHz, as they would now be superfluous. We also deleted the secondary allocation for aeronautical telemetry from the band 1525-1535 MHz to remove potentially conflicting allocations.

2. We allocate the band 1164-1215 MHz to the RNSS for space-to-Earth (“downlink”) and space-to-space transmissions in order to accommodate a new civil global positioning system (“GPS”) signal. This action permits the addition of GPS signal “L5,” which supports the safety-of-life requirements demanded by civil aviation. We also allocated the bands 1215-1240 MHz and 1559-1610 MHz, which are currently limited to RNSS downlinks, for RNSS space-to-space transmissions as well. This action allows use of spaceborne RNSS receivers for scientific and commercial applications.

3. We deleted the flight test and radiolocation allocations in the band 2320-2345 MHz because of the potential for conflict between these services and the Satellite Digital Audio Radio Service (“Satellite DARS”), which has been brought into operation in this band. We also deleted the unused FSS and BSS allocations from the band 2500-2690 MHz in order to remove allocations that are not compatible with two-way fixed and mobile operations that are operating and anticipated in the band.

4. We further implement domestically various allocation decisions from several WRCs concerning the space science services and the ISS. In this regard, we take the following actions:

• Revise secondary allocations for the Federal government EESS and the Federal government space research service (“SRS”) from secondary to primary status in 950 megahertz of spectrum in eight frequency bands and specify that these allocations are to be used for active sensor operations (“EESS (active)” and “SRS (active)”): 5250-5255 MHz, 5255-5350 MHz, 8550-8650 MHz, 9500-9800 MHz, 13.4-13.75 GHz, and 17.2-17.3 GHz.

• Modify the non-Federal government/Federal government shared allocations at 13.25-13.4 GHz and 35.6-36 GHz to provide flexibility for the Federal government to use 550 megahertz of additional spectrum for EESS (active) and SRS (active) on a primary basis, and change the primary footnote allocation for active spaceborne sensors in the band 35.5-35.6 GHz to a direct Table listing.

• Modify the non-Federal government/Federal government shared allocation at 5350-5460 MHz to provide flexibility for the Federal government to use 110 megahertz of additional spectrum for the EESS (active) on a primary basis.

• Modify the non-Federal government/Federal government shared allocation at 401-403 MHz to provide flexibility for the Federal government to use EESS uplinks and meteorological-satellite service (“METSAT”) uplinks on a primary basis.

• Modify the non-Federal government/Federal government shared allocation at 410-420 MHz to provide flexibility for the Federal government to use the SRS on a primary basis for space-to-space transmissions.

• Modify the non-Federal government/Federal government shared allocation at 7750-7850 MHz to provide flexibility for the Federal government to use METSAT downlinks on a primary basis, limited to non-geostationary satellite systems.

• Modify the non-Federal government/Federal government shared allocation at 8400-8450 MHz to provide flexibility for the non-Federal government to use SRS downlinks from deep space on a secondary basis.

• Modify the non-Federal government/Federal government shared allocation at 25.25-27.5 GHz to provide flexibility for the Federal government to use the ISS on a primary basis.

• Revise the EESS allocation from secondary to primary status in the band 25.5-27 GHz and change the directional indicator from space-to-space to space-to-Earth.

5. In addition, we: (1) Delete the primary ISS shared allocation from the band 32-32.3 GHz; (2) delete the secondary AMS(R)S allocation from the band 136-137 MHz; (3) more than double the size of the geographic area in New Mexico and Texas where amateur stations in the band 420-450 MHz will be limited in power and where spread spectrum radiolocation systems in the sub-band 420-435 MHz should not expect to be accommodated; (4) modify our rules to reflect NTIA's recent action, which specified that Federal government wind profiler radars (“WPRs”) will operate in the sub-band 448-450 MHz; (5) permit U.S. flagged ships to use more spectrum-efficient equipment for on-board mobile radiotelephony communications in areas outside the territorial waters of the United States; (6) delete unused allocations for the International Fixed Public Radiocommunication Services (“IFPRS”) from the bands 2.1-2.2 GHz and 10.7-11.7 GHz; and (7) allocate the band 14-14.5 GHz to the MSS (Earth-to-space), which includes aeronautical mobile-satellite service (“AMSS”), on a secondary basis. We also make numerous ministerial amendments to part 2 of our rules.

Discussion

6. In response to various petitions for rulemaking, the Commission has addressed in a number of proceedings many allocation changes that resulted from the 1992 World Administrative Radio Conference (“WARC-92”) and the 1995 and 1997 World Radiocommunication Conferences (“WRC-95” and “WRC-97”). In the Notice of Proposed Rule Making (“NPRM”), 67 FR 75968, December 10, 2002, in this proceeding, the Commission turned to additional allocation changes from these conferences that have not previously been considered, including several changes sought mainly at the request of NTIA. The NPRM also addressed the RNSS allocation changes from the 2000 World Radiocommunication Conference (“WRC-2000”), a Petition for Rule Making filed by the Lockheed Martin Corporation (“Lockheed Martin”) requesting that the WRC-2000 RNSS allocations in the bands 1164-1215 MHz and 1559-1610 MHz be implemented domestically and that these frequency bands be added to part 25 of the Commission's Rules, and some non-WRC allocation issues that concern the frequency bands between 28 MHz and 36 GHz. These issues included downgrading the primary flight test and radiolocation allocations in the band 2320-2345 MHz to secondary status, deleting the limited BSS and FSS allocations from the band 2500-2690 MHz, deleting unused IFPRS allocations from the bands 2.1-2.2 GHz and 10.7-11.7 GHz, and making various ministerial amendments to clean up and update the rules.

A. Generic MSS at L-Band

7. Proposals. Domestically, the Commission has previously implemented generic MSS proposals in portions of the L-band. However, routine, non-safety related MSS public correspondence is currently precluded in the uppermost one megahertz of upper L-band spectrum (1558.5-1559 MHz and 1660-1660.5 MHz) and may be provided in nine megahertz of additional upper L-band spectrum only on a secondary basis (1545-1549.5 MHz and 1646.5-1651 MHz). Accordingly, the Commission proposed in the NPRM to expand the permitted primary services from AMS(R)S to all MSS in the bands 1545-1549.5 MHz, 1558.5-1559 MHz, 1646.5-1651 MHz, and 1660-1660.5 MHz.

8. In addition, the Commission proposed to take the following non-substantive, “clean-up” actions: (1) Delete the superfluous MMSS allocations from bands 1530-1544 MHz and 1626.5-1645.5 MHz, (2) delete the superfluous secondary MSS allocations from the bands 1545-1549.5 MHz and 1646.5-1651 MHz, and (3) delete the superfluous AMS(R)S allocations from the bands 1549.5-1558.5 MHz and 1651-1660 MHz. The effect of these proposals is that the band 1525-1559 MHz would be allocated for MSS downlinks on a primary basis and the band 1626.5-1660.5 MHz would be allocated for MSS uplinks on a primary basis.

9. The Commission proposed to maintain footnotes US308 and US315 concerning the priority to be afforded distress and safety communications, stating that it believed that these generic MSS allocations would provide MSV and others with maximum flexibility, without hindering the use of this spectrum for distress and safety communications. The Commission requested comment on whether footnote US308 should be modified or replaced by international footnotes 5.357A and 5.362A. The Commission also proposed to update part 25 of the rules by stating that the bands 1525-1559 MHz and 1626.5-1660.5 MHz are available for use by L-band MSS systems and that use of the bands 1544-1545 MHz and 1645.5-1646.5 MHz is limited to distress and safety communications.

10. The Commission also requested comment on whether the secondary mobile allocation, which is limited to aeronautical telemetry in the band 1525-1535 MHz, should be deleted in the United States Table of Frequency Allocations (“U.S. Table”) and on whether co-frequency transmissions from aircraft can cause harmful interference to the MSS. Consistent with this proposal, the Commission also proposed to revise footnote US78 to remove the frequency 1525.5 MHz, which can be used for both aircraft and spacecraft telemetry. The Commission further requested comment on whether the aeronautical telemetry operations in the band 1525-1535 MHz can be relocated to either the band 1435-1525 MHz or to the band 2310-2385 MHz.

11. Decision. We adopted the generic MSS allocation proposal for the bands 1525-1559 MHz/1626.5-1660.5 MHz set forth in the NPRM, deleting the secondary aeronautical telemetry allocation from the band 1525-1535 MHz and revising footnote US78 to remove the frequency 1525.5 MHz, and retaining footnotes US308 and US315. Commenters expressed strong support for a generic MSS allocation and deletion of the secondary aeronautical telemetry allocation, and we find that these changes will enhance flexibility and efficiency in the bands 1525-1559 MHz and 1626.5-1660.5 MHz. While there is a difference of opinion regarding the desirability of retaining footnotes US308 and US315, we concur with MSV that the advantages of retaining them outweigh the disadvantages. As noted by MSV, footnotes US308 and US315 are long-standing and replacement of them by international footnotes 5.357A and 5.362A, which have different language, would introduce confusion as to whether policy changes were being made. Further, § 25.136(d) and (e) of the Commission's rules set forth specific requirements for MSS mobile and land earth stations that satisfy the priority and preemption requirements of footnote US315. Regarding footnote US309, we concur with MSV that this footnote allows terrestrial stations in the AMS(R)S to operate in more of the band than international footnotes 5.357A and 5.362A, in order to supplement satellite-to-aircraft links in that service. The broader spectrum range allowed by US309 is more consistent with the Commission's decision to expand AMS(R)S use within a generic MSS allocation. Thus, we decline to modify US309, which we did not propose to change in the NPRM. Accordingly, we are retaining footnotes US308, US315, and US309.

B. RNSS Allocations

12. Proposals. As requested by NTIA, the Commission proposed in the NPRM to adopt new footnote US385, which would allocate the band 1164-1189 MHz for RNSS downlink and space-to-space transmissions on a primary basis. It also proposed to add definitions of Differential Radionavigation Satellite Service (“Differential RNSS”) Station and Differential Global Positioning System (“DGPS”) Station to part 2 of the Commission's Rules, as follows:

Differential Radionavigation Satellite Service (Differential RNSS) Station. A station used for the transmission of differential correction data and related information (such as ionospheric data and RNSS satellite integrity information) as an augmentation to an RNSS system for the purpose of improved navigation accuracy.

Differential Global Positioning System (DGPS) Station. A differential RNSS station for specific augmentation of GPS.

13. Additionally, the Commission requested comment on whether the band 1164-1189 MHz should be added to a new footnote US343 that was proposed in WT Docket No. 01-289. This footnote would provide that DGPS stations may be authorized on a primary basis in the bands 108-117.975 MHz and 1559-1610 MHz for the specific purpose of transmitting DGPS information intended for aircraft navigation. The Commission further sought comment on whether it should allocate domestically the international RNSS allocation at 1189-1215 MHz, and in particular on whether this allocation is needed to support U.S. requirements. In the NPRM, the Commission observed that studies continue in the international process to determine the aggregate impact of multiple RNSS systems on incumbent aeronautical radionavigation service (“ARNS”) systems and that, given the safety-of-life aspects of these ARNS systems, the Commission did not anticipate adopting this additional allocation unless a need is demonstrated and studies are done that support such a move.

14. The NPRM also proposed to add a space-to-space directional indicator to the primary RNSS allocation in the bands 1215-1240 MHz and 1559-1610 MHz, which are currently limited to downlink transmissions, to recognize current and future use of spaceborne RNSS receivers for scientific and commercial applications. Finally, the NPRM declined to propose adding the RNSS L1 and L5 frequencies to § 25.202(a) of the Commission's Rules, as requested by the Lockheed Martin petition for rule making.

15. Decision. Since adoption of the NPRM in this docket, WRC-03 has taken certain decisions regarding RNSS that are relevant to issues raised in this proceeding. In particular, as noted by NTIA, WRC-03 has modified footnote 5.328A of the international Table of Allocations to clarify that all stations in the RNSS operating in the band 1164-1215 MHz shall operate in accordance with specified aggregate interference protection criteria for ARNS (−121.5 dB(W/m²) in any 1 MHz band) and not claim protection from stations in the ARNS operating in the 960-1215 MHz band. Administrations operating RNSS stations in these bands are to cooperate to ensure that the protection criteria are satisfied. In the NPRM in this proceeding, we proposed to add a primary RNSS allocation in the band 1164-1189 MHz, and sought comment on whether we should extend the allocation to the band 1189-1215 MHz, noting in regard to the latter band that studies were underway in the international process to determine the aggregate impacts of multiple RNSS systems on incumbent ARNS systems. We stated that we would not anticipate adopting this additional allocation unless a need was demonstrated and studies completed. Although we did not propose pfd limits on RNSS systems, we did propose to adopt a new United States footnote that would require RNSS stations to not cause interference to, nor claim protection from, stations in the ARNS. Given the WRC-03 results and support on the record in this proceeding, we conclude that the RNSS allocation should extend from 1164-1215 MHz. This increased allocation will provide flexibility for potential future GPS implementation plans and facilitate cooperative efforts among administrations operating RNSS systems in these bands to protect ARNS systems. However, we concur with NTIA that a footnote—rather than a table—allocation for the new 1164-1215 MHz RNSS band is appropriate, and that this footnote should include language specifying that RNSS shall not cause harmful interference to ARNS. While Inmarsat Ventures plc (“Inmarsat”) contends that this language could be construed as an additional requirement or superfluous to the WRC-03 aggregate interference protection criteria, we find it appropriate as an interim measure. We intend to address how best to reference the WRC-03 protection criteria for ARNS, whether by adopting international footnote 5.328A or modifying our part 25 satellite service rules, when we initiate a proceeding to address WRC-03 implementation.

16. With regard to Lockheed Martin's recommendations that we expand the current GPS L2 spectrum at 1215-1240 MHz to 1215-1300 MHz and permit non-Federal government RNSS use of the band 1215-1300 MHz, we observe that the NPRM did not propose either of those changes and thus we have declined to consider these changes at this time. With regard to Lockheed Martin's recommendation that we add the international RNSS allocations at 1164-1215 MHz and 1559-1610 MHz to the part 25 list of frequency bands available for satellite services, we see no advantage to be gained by taking that action now. As the Commission stated in the NPRM, such action would be more appropriate in connection with development of service and licensing rules for the RNSS frequency bands, and following development of international technical criteria for operations in these bands. We will explore all of these issues when we consider the WRC-03 protection criteria for ARNS in the WRC-03 implementation proceeding.

17. With regard to Inmarsat's recommendation that we not adopt the proposed definitions of Differential RNSS and DGPS stations, we disagree with Inmarsat that these definitions create ambiguity or confusion between them and any current definition in either our rules or in the ITU rules. The definitions are simply informational. As we observed in the NPRM, differential RNSS correction data and related information is transmitted in a data link and sometimes is not within the RNSS. These definitions clarify that this information augments the RNSS system and improves navigation accuracy. Accordingly, we are adding the proposed definitions of Differential RNSS and DGPS stations to part 2 of the rules.

18. Finally, with regard to Inmarsat's comments on whether the band 1164-1189 MHz should be added to proposed footnote US343, we note that this footnote was proposed in the Notice of Proposed Rule Making in WT Docket No. 01-289, which is still pending. We do not wish to prejudge whether proposed US343 will be adopted in that proceeding; hence, we will defer consideration of the possible addition of the band 1164-1189 MHz to proposed US343 to the Report and Order in WT Docket No. 01-289.

C. Satellite DARS and Adjacent Bands

19. Proposals. In the NPRM, the Commission proposed to revise footnote US328 to permit flight testing operations to continue on a secondary basis in the band 2320-2345 MHz. The Commission also proposed to delete the radiolocation service from footnote US328 because there are no non-Federal government radiolocation operations in the Satellite DARS band and because the Federal government already has a secondary direct Table allocation for this service. It further proposed to delete the requirement that Satellite DARS licensees take cognizance of the launch vehicle frequency 2332.5 MHz because satellite DARS systems have been implemented. In addition, the Commission requested comment on whether all secondary operations should be deleted from this band in order to protect Satellite DARS operations. It proposed to amend § 87.303(d)(1) to state that frequencies in the band 2310-2360 MHz may be assigned on a secondary basis for telemetry and telecommand operations associated with the flight testing of manned or unmanned aircraft and missiles, or their major component, and proposed to delete the launch vehicle frequency 2332.5 MHz from § 87.303(d)(1). The Commission also proposed to add cross-references in the U.S. Table to part 25, Satellite Communications, in the band 2320-2345 MHz, and to part 87, Aviation Services, in the band 2310-2390 MHz. Finally, the NPRM proposed to delete footnote 5.396 from the band 2310-2360 MHz from the Federal Government Table because that footnote pertains to the broadcasting-satellite service, which is not regulated by NTIA; and to delete footnote US338 from the band 2310-2320 MHz because that footnote does not pertain to that band. These combined actions were designed to clarify use of the band 2310-2390 MHz and to permit the new satellite DARS service to operate in an interference-free environment in the band 2320-2345 MHz.

20. Decision. We are adopting the proposals pertaining to the band 2310-2390 MHz set forth in the NPRM, except that we are deleting the mobile service allocation from band 2320-2345 MHz in the U.S. Table and are deleting footnotes US276 and US328, which limit uses under the mobile allocation, from that band. The comments of the Aerospace and Flight Test Radio Coordinating Council and the Boeing Company (“Boeing”) convince us that there is no need to maintain a secondary aeronautical telemetry allocation in the band 2320-2345 MHz because such an allocation would be unusable due to potential interference from new Satellite DARS operations. Because footnote US276 currently limits the use of the mobile service in the band 2320-2385 MHz to aeronautical telemetry, this United States footnote is retained but henceforth will apply only to the band 2360-2385 MHz. In contrast, footnote US328, which applies only to the band 2320-2345 MHz, is deleted in its entirety. In all other respects, we adopt the proposals for the band 2310-2390 MHz set forth in the NPRM. This action will eliminate possible interference to Satellite DARS operations, as well as remove confusion regarding use of the band 2310-2390 MHz.

D. ITFS/MDS Band

21. Proposals. In the NPRM, the Commission stated its belief that FSS and BSS operations in the band 2500-2690 MHz could affect the reliability of point-to-multipoint channels and low-power consumer response channels in that band and noted that service rules for advanced mobile operations may also be implemented in that band in the future. Therefore, the Commission proposed to delete the unused and limited FSS and BSS allocations from the band 2500-2690 MHz in order to remove regulatory uncertainty. Consistent with its proposal to delete these allocations, the Commission also proposed to delete footnotes NG101 and NG102, which limit the use of the allocations. In addition, it proposed to delete footnote NG47 so as to make the band 2655-2690 MHz available for ITFS/MDS use in Alaska.

22. Decision. We are adopting the proposals pertaining to the band 2500-2690 MHz set forth in the NPRM. No party objects to the proposal to delete the FSS allocation in that band, and only AirTV Limited (“AirTV”) objects to the proposal to delete the BSS allocation in that band. We make no finding on the potential benefits of AirTV's proposed based Direct-to-Aircraft entertainment and e-mail system in the band 2535-2670 MHz. However, we find that such a system would increase costs for terrestrial services due to the need to mitigate interference caused by AirTV's system. We concur with Boeing that the World Trade Organization agreement does not apply to AirTV's system and thus the U.S. may limit new satellite authorizations when faced with potential interference issues with incumbent operations. We concur with the Wireless Communications Association International, Inc. that AirTV has not met the burden of demonstrating that its system will not cause interference to terrestrial services that use the band 2520-2670 MHz. Accordingly, as proposed in the NPRM, we are deleting the FSS and BSS allocations from the band 2500-2690 MHz and are deleting footnotes NG47, NG101, and NG102.

E. Space Science Services

23. Proposals. With respect to active spaceborne sensors, in the NPRM the Commission proposed, in response to a request from NTIA, to allocate the bands 1215-1300 MHz, 3100-3300 MHz, 5255-5350 MHz, 8550-8650 MHz, 9500-9800 MHz, 13.25-13.4 GHz, 17.2-17.3 GHz, and 35.5-36 GHz to the EESS (active) and SRS (active); the bands 5250-5255 MHz and 13.4-13.75 GHz to the EESS (active) and SRS; and the band 5350-5460 MHz to the EESS (active). These allocation changes would implement WRC-97 allocation changes for the space science services. For the Federal Government Table, the Commission proposed that all of these active spaceborne sensor allocations have primary status, except in the band 3100-3300 MHz, where the sensors would continue to have secondary status. For the non-Federal Government Table, the Commission proposed that all of these allocations have secondary status. At the request of NTIA, the Commission also proposed to add five international footnotes to the U.S. Table to ensure that active spaceborne sensors not cause harmful interference to, nor constrain the use and development of, incumbent primary services in the bands 1215-1300 MHz, 5350-5460 MHz, and 13.25-13.75 GHz. Finally, and also at the request of NTIA, the Commission proposed to add two international footnotes to the U.S. Table to ensure that primary SRS allocations in the bands 5250-5255 MHz and 13.4-13.75 GHz are limited to active spaceborne sensors and that other space research users are on a secondary basis. Consistent with these proposals, the Commission proposed to delete from the U.S. Table international footnotes 5.333 and 5.551, which provide the current secondary active spaceborne sensor allocations, and also proposed to delete the secondary allocation for the SRS (Earth-to-space) in the band 13.25-13.4 GHz.

24. With respect to other space science services, in the band 401-403 MHz the Commission proposed in the NPRM, in response to a request from NTIA, to upgrade the secondary EESS and METSAT allocations to primary status for Federal government use and to limit non-Federal government use of these allocations to earth stations transmitting to Federal government space stations. The Commission requested comment on whether non-Federal government use of these allocations should be limited to earth stations transmitting to Federal government space stations. The Commission proposed to allocate the band 410-420 MHz to the SRS (space-to-space) on a primary basis for Federal government use and to limit its use, through the application of footnote 5.268, to permit communications among astronauts and their base spacecraft while those astronauts are performing activities outside the base spacecraft. In the band 7750-7850 MHz, the Commission proposed an allocation for Federal government METSAT downlink use, limited to NGSO satellites, as requested by NTIA. In the band 8400-8450 MHz, the Commission proposed an allocation for Deep Space downlinks on a secondary basis, to permit non-Federal government entities, such as educational institutions, to perform scientific research in cooperation with the National Aeronautics and Space Administration (“NASA”). In the 32 GHz band range, the Commission proposed to delete the unused ISS allocation from the band 32-32.3 GHz in order to protect deep space reception at Goldstone, California, and proposed to move the text of an international footnote into a U.S. footnote to reflect the anticipated prohibition on use of the band 32-32.3 GHz by the ISS. Finally, in the 34 GHz frequency range, the Commission proposed to move the SRS (deep space) (Earth-to-space) allocation at 34.2-34.7 GHz from a U.S. footnote into the U.S. Table as a direct Table allocation, with Federal government use on a primary basis and with non-Federal government use on a secondary basis; and proposed to move the Goldstone site restriction in that same band from footnote US252 to US262.

25. Decision. We are adopting the proposals to provide a primary Federal government allocation and a secondary non-Federal government allocation for EESS (active) and SRS (active) in the band 1215-1260 MHz. With regard to Lockheed Martin's concerns that a primary allocation for EESS (active) and SRS (active) would pose a threat of harmful interference to domestic and global RNSS, we disagree. First, we are adding international footnote 5.332, which states that, for the band 1215-1260 MHz, active spaceborne sensors in the EESS and SRS shall not cause harmful interference to, claim protection from, or otherwise impose constraints on operation or development of the radiolocation service, the RNSS and other services allocated on a primary basis. Second, we observe that the international frequency table already contains primary allocations for RNSS, EESS (active) and SRS (active) in the band 1215-1300 MHz. Thus, if the U.S., in the future, decides to add a primary RNSS allocation to the 1260-1300 MHz band, such a decision would be consistent with the existing international allocation. Any appropriate sharing criteria can be worked out at that time. With regard to Medtronic Inc.”s recommendation that non-Federal government use of the EESS and METSAT allocations in the band 401-403 MHz be limited to earth stations transmitting to Federal government space stations, no party supports permitting earth stations to transmit to non-Federal government space stations in this band and we did not propose such use. Accordingly, we decline to permit that use.

F. The Band 25.25-27.5 GHz

26. Proposals. In the NPRM, the Commission noted that there are currently no FCC licensees using the secondary EESS allocation in the band 25.25-27.5 GHz and proposed to: (1) generally reflect changes previously made to the Federal government Table in the NTIA Manual, including adopting a primary ISS allocation in that band and changing the directional indicator for the secondary EESS allocation in the sub-band 25.5-27 GHz from space-to-space to space-to-Earth; (2) correspondingly change the directional indicator for the secondary non-Federal government EESS allocation in that sub-band; (3) upgrade the Federal government EESS allocation in that sub-band to primary status; and (4) delete the remainder of the secondary EESS allocation (25.25-25.5 GHz and 27-27.5 GHz).

27. Decision. We are adopting the proposals pertaining to the band 25.25-27.5 GHz set forth in the NPRM, except that we are maintaining, rather than deleting, the secondary non-Federal government allocation for the EESS (space-to-space) in that band. We take the latter action to allow flexibility for both space-to-space and space-to-Earth operations by Federal and non-Federal government users in that band. With respect to DigitalGlobe Inc.”s and Space Imaging, LLC's concerns about non-Federal government EESS systems, we find that these two companies have presented evidence that the non-Federal government, as well as the Federal government, EESS allocation in the sub-band 25.5-27 GHz band should be upgraded to primary status, but we conclude that we have insufficient basis to upgrade that allocation at this time. The NPRM did not propose to upgrade the non-Federal government allocation, and “ based on the limited record in this proceeding “ we are unable to conclusively determine whether Federal government fixed, mobile, ISS, and EESS users of the sub-band 25.5-27 GHz would be adversely affected by this upgrade. Accordingly, we decline to take that action at this time. However, we plan to explore in the WRC-03 implementation proceeding referenced in paragraph 24, of the R&O, whether that change could be made without adversely impacting Federal government users of that sub-band. In the interim, because non-Federal government EESS providers will use that sub-band on a secondary basis to Federal government users, it is incumbent that EESS applicants coordinate their proposed operations with NTIA in order to protect those users. Accordingly, we are adopting the changes for the band 25.25-27.5 GHz proposed in the NPRM, except for maintaining the secondary non-Federal government allocation for the EESS (space-to-space) in that band.

G. Other Allocation Issues

(1) Secondary AMS(R)S Allocation in the Band 136-137 MHz

28. Proposals. The NPRM proposed a footnote change in the U.S. Table in order to delete the unused AMS(R)S allocation from the band 136-137 MHz. In addition, the NPRM proposed a footnote change to remove the expired transition plan for METSAT use of the band 136-137 MHz.

29. Decision. No party commented on the proposals pertaining to the band 136-137 MHz set forth in the NPRM. We are adopting these proposals. This action will bring the U.S. Table in the band 136-137 MHz into conformance with the band's use by the AM(R)S, remove the potentially conflicting AMS(R)S secondary allocation, and remove the expired transition plan for METSAT use of the band.

(2) The Band 420-450 MHz

30. Proposals. In the NPRM, the Commission, in response to a request from NTIA on behalf of the U.S. Army, proposed to modify footnotes to the U.S. Table to more than double the combined size of the geographical area in Texas and New Mexico where the maximum transmitter power that amateur radio stations may use in the band 420-450 MHz would generally be limited to 50 watts PEP, rather than the usual limit of 1.5 kW PEP. In its request to the Commission, NTIA states that this geographical area must be extended to prevent interference from amateur radio operations to a New Mexico missile test range. NTIA cites Army concerns that amateur operations in this area present an interference threat to missiles launched at Fort Wingate, NM, aimed at the airspace over White Sands Missile Range, NM, because there is now a Department of Defense test and evaluation center that uses areas west and south of Albuquerque, NM. Also in response to a request from NTIA, the Commission stated that it intended to place an informational footnote in its Rules pertaining to Federal government wind profiler radar (“WPR”) radiolocation use of the sub-band 448-450 MHz. Finally, the NPRM requested comment on whether non-Federal government WPRs should also be allowed in that sub-band on either a primary or secondary basis and on the impact of WPRs on non-Federal government operations permitted in that sub-band.

31. Decision. We are adopting the proposals pertaining to the band 420-450 MHz set forth in the NPRM. With regard to the recommendation of ARRL, the National Association for Amateur Radio (“ARRL”), that the Commission establish an expedited method of processing amateur radio license requests in cases where amateurs are able to reach agreements with military area frequency coordinators, we note that our license processing procedures are not subject to rulemaking; however, we always seek to process applications as expeditiously as possible. With regard to the concern of Douglas Hanz—an amateur radio licensee—that amateur radio stations be permitted to use 110 watts PEP in that band with a restriction of 6dBi antenna gain, inclusive of transmission line loss, we observe that there already is a procedure by which amateur licensees can use powers greater than 50 watts; i.e., by reaching agreement with a military area frequency coordinator. As indicated in NTIA's correspondence to us of August 2002, the Army finds that the area in Texas and New Mexico where amateur transmitter power in the band must be limited should be expanded to protect missile testing and evaluation at a test range in New Mexico. Accordingly, we are adopting our proposal to modify footnotes to the U.S. Table to expand the area in Texas and New Mexico where the maximum transmitter power that amateur radio stations may use in the band 420-450 MHz would generally be limited to 50 watts PEP. With regard to permitting non-Federal government WPR use of the sub-band 448-450 MHz, only ARRL commented, and it is strongly opposed. Because no one expresses an interest in such non-Federal use, we will not permit non-Federal government WPR use in the 448-450 MHz sub-band.

(3) On-Board Mobile Radiotelephony Communications

32. Proposals. In the NPRM, the Commission proposed to replace international footnote 669 with footnote 5.287 in the U.S. Table for the band 456-470 MHz. The effect of this proposal would be to permit U.S. licensees to use maritime mobile equipment that is more spectrum-efficient and that has access to ten instead of six channels for on-board communications in areas outside U.S. territorial waters.

33. Decision. No party commented on our proposal to replace international footnote 669 with footnote 5.287 in the U.S. Table for the band 456-470 MHz, thereby revising the frequency use provision for on-board mobile radiotelephony maritime communications. Accordingly we are adopting this proposal. This action will permit more efficient maritime mobile equipment to be employed outside U.S. territorial waters.

(4) IFPRS Use in the Bands 2.1-2.2 GHz and 10.7-11.7 GHz

34. Proposals. In the NPRM, the Commission, in order to remove regulations that are no longer needed, proposed to delete footnote NG23, which pertains to the band 2100-2200 MHz, and to revise footnote NG41 to remove the band 10.7-11.7 GHz because there are no longer any IFPRS licensees operating in either of these bands. The Commission also proposed to delete all cross-references to part 23, except for C-band, from column 6 of the Table of Frequency Allocations.

35. Decision. We are adopting the proposals pertaining to the IRPRS set forth in the NPRM, but are rejecting the recommendation of the PanAmSat Corporation (“PanAmSat”) to prohibit new C-band IFPRS facilities. There is no opposition to the proposals relating to the IFPRS; however, PanAmSat recommends that we take additional action. While we concur with PanAmSat that new IFPRS facilities are unlikely to be required in C-band, we do not want to foreclose the opportunity for additional use of this service in remote island areas if it is required. Further, we have not given interested parties sufficient notice in this proceeding to prohibit such facilities. Additionally, there would be no significant administrative advantage of such a prohibition, as C-band IFPRS rules must be retained for existing facilities. Accordingly, we deny PanAmSat's request.

(5) Secondary MSS Use of the Band 14-14.5 GHz

36. Proposals. In the NPRM, the Commission observed that LMSS operates on the band 14-14.5 GHz in the United States on a secondary basis without causing harmful interference to ubiquitously deployed VSATs and that other nations have implemented MMSS uplinks in the band 14-14.5 GHz on a secondary basis. The Commission also observed that it agreed with the U.S. WRC-97 Proposals that using the same or similar terminals to offer MMSS services in the band 14-14.5 GHz should be compatible with other services in this band, especially since the LMSS allocation has been successfully used in the United States for some time. Accordingly, the Commission proposed in the NPRM to allocate the band 14-14.5 GHz to the MSS (Earth-to-space) except AMSS on a secondary basis for non-Federal government use.

37. Decision. We are allocating the band 14-14.5 GHz to the MSS, including AMSS (Earth-to-space), for non-Federal government use on a secondary basis. There is no opposition to this allocation. Consistent with the comments of Boeing regarding AMSS, we believe that such use of the band appears to be technically feasible and would be helpful in meeting the growing demand for two-way broadband data and communications capabilities for commercial aircraft passengers and crew. Further, WRC-03 added a worldwide secondary AMSS allocation in this band. We find that conforming the U.S. Table to this recent international allocation is desirable because it will facilitate an important new use of the 14-14.5 GHz band on a non-interference basis to other uses of the band. We further find that no party need be adversely impacted by this action. However, we note that the SRS has a secondary allocation in a portion of this band and NASA uses that allocation as a downlink for its Tracking and Data Relay Satellite System (“TDRSS”). Further, the National Science Foundation (“NSF”) operates radio astronomy services (“RAS”) in the band 14.47-14.50 GHz in accordance with footnote US203 and Radio Astronomy is allocated on a secondary basis internationally. Therefore, users of AMSS will need to deal with protection of radio astronomy. We also note that a number of administrations have specified specific protection requirements for radio astronomy. In December 2001, we issued Boeing a license to operate mobile earth stations aboard aircraft in the 14-14.5 GHz band and imposed several conditions on that license, including the conditions that Boeing not constrain deployment of additional government stations operated by NASA in the SRS and that Boeing design and operate its system in accordance with its Technical Operational Coordination Agreement with NSF to facilitate the protection of RAS. Boeing must continue to operate in accordance with the conditions that we imposed on its license and thus must continue to protect the TDRSS and RAS operations in the 14-14.5 GHz band. Further, in accordance with a Memorandum of Understanding (“MOU”) that we reached with NTIA in July 2002, we will protect those operations from interference by any future AMSS operations that we authorize in that band. Until we adopt final rules relating to allocation changes in the 14-14.5 GHz band or licensing of AMSS terminals in that band, we will place the following conditions on any additional system authorizations that we may issue in that band for a service similar to Boeing's:

(1) The system shall be designed and operated so as not to cause harmful interference to TDRSS or RAS operations in the United States; and

(2) The system shall not constrain future deployment of additional Federal Earth Stations in the SRS and RAS authorized pursuant to existing allocations.

Because RAS operations in the band 14.47-14.5 GHz operate on an unprotected basis domestically, we will maintain the protection of RAS as articulated in the conditions specified above. However, we note that the Commission may explore in a future rulemaking the protection levels or mechanism necessary to protect these services. The NTIA/FCC MOU states that “[t]he FCC will endeavor to reflect in its decisions conditions and constraints that explicitly protect NASA, NSF and other government operations (i.e., ITU-R Recommendation RA. 769 for Radio Astronomy and ITU-R Recommendations S.A. 5.10, S.A. 1017, S.A. 1155, S.A. 1414, M. AMSS for TDRSS earth stations, and Boeing's Technical Operational Coordination Agreement with NSF, dated 13 December 2001, and the letter of guidance provided to Boeing by NASA, dated December 18, 2001.”

38. Lastly, as noted in paragraph 55, of the R&O, government fixed and mobile services are allocated on a secondary basis in the band 14.4-14.5 GHz. Protection criteria for these government terrestrial operations may need to be developed in conjunction with AMSS service rules in the 14-14.5 GHz band.

39. Accordingly, we are allocating the 14-14.5 GHz band to all MSS uses on a secondary basis to the primary FSS in that band, as well as on a secondary basis to the primary radionavigation service in the 14-14.2 GHz sub-band. Finally, with regard to PanAmSat's concern about MMSS, we observe that such use of the band 14-14.5 GHz—like other MSS use of this band—will be on a secondary basis to FSS, and we find no need to further restrict how MMSS should operate in the band.

H. Ministerial Amendments

40. Proposals. In the NPRM, the Commission proposed to make a number of ministerial amendments to part 2 of the Commission's rules. First, to eliminate both confusion and outdated provisions, the Commission proposed to:

(1) Replace international footnotes 599A, 608A, 608B, and 647B in the “Little LEO” bands of the U.S. Table with footnotes 5.208, 5.219, 5.220, and 5.264, respectively, which are non-substantive changes;

(2) Merge footnote US322 into US320, that is, add the bands 149.9-150.05 MHz and 399.9-400.05 MHz to footnote US320, and delete superfluous footnotes US322 and 599B from the U.S. Table;

(3) Delete expired footnote US318 from the band 137-138 MHz and the part 25 cross reference from the band 136-137 MHz; and

(4) Delete expired text from section 25.202(a)(3), which concerns the allocation status of certain of the Little LEO bands.

41. Second, the Commission observed that, in WT Docket No. 01-289, it proposed to delete the Civil Air Patrol (“CAP”) from part 87 of the rules because the Commission has no formal relationship with the CAP, which is authorized by the U.S. Air Force and NTIA. To be consistent with that proposal, in the NPRM the Commission proposed to delete footnote US10, which states that several frequencies in the band 138-144 MHz are available for use by the CAP.

42. Third, the Commission proposed to delete international footnote 510 from the band 144-146 MHz in the non-Federal Government Table. This footnote, through its reference of Resolution 640, invited administrations to provide for the needs of international disaster communications and for the needs of emergency communications using certain amateur bands.

43. Fourth, the Commission proposed to revise footnote US48 to remove provisions regarding the band 5350-5460 MHz that are already provided elsewhere in the Table. That is, there is already a primary direct Table allocation for Federal government radiolocation and a secondary direct Table allocation for non-Federal government radiolocation in the band 5350-5460 MHz for this purpose.

44. Fifth, the Commission proposed to revise footnote US110 to remove provisions regarding certain bands that are already shown in the Table. That is, there are primary direct Table allocations for Federal government radiolocation and secondary direct Table allocations for non-Federal government radiolocation in all of the bands listed in footnote US110, except for the band 9200-9300 MHz, which is allocated to both the Federal and non-Federal government radiolocation service on a secondary basis.

45. Sixth, the Commission proposed to revise footnote US310 to specify the pfd limits for all angles of arrival. Currently US310 specifies only the maximum and minimum pfd limits and references CCIR Recommendation 510-1, which has been renumbered as Recommendation ITU-R SA.510-2, for the specific requirements.

46. Seventh, the Commission proposed to add a reference to footnote NG167 in the band 17.3-17.7 GHz to explicitly tie the allocation for the broadcasting-satellite service in the band 17.3-17.7 GHz to its feeder link allocation in the band 24.75-25.25 GHz.

47. Eighth, the Commission proposed to make the following changes to the rule part cross-references in column 6 of the Table of Frequency Allocations:

(1) Delete part 87, the Aviation Services, from the band 29.8-30 MHz and add part 87 to the bands 72-73 MHz, 74.6-74.8 MHz, and 156.2475-157.0375 MHz;

(2) Add part 90, the Private Land Mobile Radio Services, to the band 410-420 MHz;

(3) Add part 80, the Maritime Services, to the band 1525-1535 MHz; and

(4) Add part 25, Satellite Communications, to the band 1660-1660.5 MHz.

48. Ninth, the Commission proposed to make the following changes to eliminate outdated requirements or correct typographical errors:

(1) Clarify in footnote US217 that spread spectrum radiolocation systems may be authorized for Federal and non-Federal government use in the sub-band 420-435 MHz within Alaska and the contiguous 48 states and correct several typographical errors;

(2) Correct a typographical error in footnote US316 by changing the NEXRAD expansion band from 2900-3100 MHz to 2900-3000 MHz;

(3) Delete the references to footnote NG30 in the band 806-894 MHz and to footnote NG43 in the band 806-849 MHz from the non-Federal Government Table because these footnotes have previously been deleted, but were not fully removed from the non-Federal Government Table;

(4) Delete footnote NG63 because the Commission's licensing files show that there are no television broadcast translator stations still authorized to operate in the band 806-890 MHz (old TV channels 70-83); and

(5) Delete footnote US54 because Federal government radiolocation systems that could cause harmful interference to ARNS have had at least since 1961 to move to other frequency bands.

49. Tenth, the Commission proposed to replace the reference to international footnote 5.149 with footnote US342 in the U.S. Table for several frequency bands and proposed to add two additional bands to the text of that footnote. In addition, it proposed to delete footnote 5.149 from the band 1660.5-1668.4 MHz, and proposed to revise US342 by deleting the indication showing which frequency bands are used for spectral line observations. The Commission also requested comment on whether US342 could be revised to state that licensees are “urged,” (similar to footnote 5.149) instead of “required” to take all practicable steps to protect the radio astronomy service (“RAS”) from harmful interference.

50. Finally, the Commission observed that the band 73-74.6 MHz is allocated exclusively to the RAS, which is a passive service, and that passive bands are listed in footnote US246. Accordingly, it proposed to add the band 73-74.6 MHz to US246.

51. Decision. No party commented on any of the proposals pertaining to ministerial amendments to part 2 of the Commission's rules set forth in the NPRM. We are adopting these proposals, to enhance the accuracy of the U.S. Table. In addition, on our own motion, we are making nine additional ministerial changes. We are merging the bands 698-746 MHz and 746-764 MHz as the band 698-764 MHz because the allocations in these bands are exactly the same and thus, this action simplifies our Table. We are deleting the band 34.2-34.7 GHz from footnote US252 because the SRS allocation for this band has been made a direct Table allocation. We are deleting the obsolete list of coordinated observatories from footnote US277 and are instead cross referencing the list of observatories in footnote US355. We are correcting footnote US355 in order to use the proper symbols for degree, minute, and second. We remove the “S” reference in footnote US303 to make the cross-reference to ITU Radio Regulation No. 21.16 consistent with current practice. We are updating footnote NG114 to refer to the Public Mobile Service, not the Domestic Public Service, which no longer exists. At the request of NTIA, we are adding footnote 5.391, which prohibits high-density mobile systems, to the band 2200-2290 MHz, which is Federal government exclusive band. We are adding cross reference to the Aviation Services (part 87) in the bands 2310-2320 MHz and 2345-2385 MHz. We also remove those footnotes to the Table of Frequency Allocations that are no longer in effect because they have been suppressed in the ITU Radio Regulations. These additional ministerial actions will update and otherwise remove errors from the U.S. Table.

Final Regulatory Flexibility Certification

52. The Regulatory Flexibility Act of 1980, as amended (“RFA”) requires that a final regulatory analysis be prepared for notice-and-comment rule making proceedings, unless the agency certifies that the “the rule will not, if promulgated, have a significant economic impact on a substantial number of small entities. The RFA generally defines the term “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the Small Business Administration (“SBA”).

53. The Report and Order amends parts 2, 25, and 87 of our rules in order to implement domestically various allocation decisions from several World Radiocommunication Conferences concerning the frequency bands between 28 MHz and 36 GHz and to otherwise update our rules in this frequency range. These allocations mainly affect Federal agencies. Those allocations that are most significant to non-Federal government operations are: (1) Implementing generic L-band MSS allocations; (2) allocating the band 1164-1189 MHz to the RNSS; and (3) deleting unused and limited FSS and BSS allocations from the band 2500-2690 MHz. Concerning L-band MSS, currently there is only one U.S. licensee. Concerning the RNSS allocation, only one or at most a few large companies are expected to be able to launch and maintain RNSS systems, which are expensive. The last action merely deletes unused allocations, with no direct effect on licensees or regulatees.

54. We have determined that the rules adopted in this R&O will not have a significant economic impact on a substantial number of small entities. Accordingly, we hereby certify that this R&O will not have a significant economic impact on a substantial number of small entities. The Commission's Consumer and Governmental Affairs Bureau, Reference Information Center, will send a copy of this R&O, including this certification, to the Chief Counsel for Advocacy of the Small Business Administration.

Ordering Clauses

55. Pursuant to sections 1, 4, 301, 302(a), 303, 307, 309, 316, 332, 334, and 336 of the Communications Act of 1934, as amended, 47 U.S.C. sections 151, 154, 301, 302(a), 303, 307, 309, 316, 332, 334, and 336, the Report and Order and final rules are adopted.

56. The late-filed comments of DigitalGlobe, Inc. to the Notice of Proposed Rule Making in this proceeding are accepted.

57. The Commission's Consumer and Governmental Affairs Bureau, Reference Information Center, shall send a copy of this Report and Order, including the Final Regulatory Flexibility Certification, to the Chief Counsel for Advocacy of the Small Business Administration.

58. This proceeding is terminated.

List of Subjects

47 CFR Part 2

Communications equipment, Radio.

47 CFR Part 25

Commmunications equipment, Satellites.

47 CFR Part 87

Air transportation.

Federal Communications Commission.
Marlene H. Dortch,
Secretary.

Final Rules

For the reasons discussed in the preamble, the Federal Communications Commission amends 47 CFR parts 2, 25, and 87 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Section 2.1 is amended by adding the following definitions in alphabetic order:

§ 2.1 Terms and definitions.

* * * * *

Differential Global Positioning System (DGPS) Station. A differential RNSS station for specific augmentation of GPS.

Differential Radionavigation Satellite Service (Differential RNSS) Station. A station used for the transmission of differential correction data and related information (such as ionospheric data and RNSS satellite integrity information) as an augmentation to an RNSS system for the purpose of improved navigation accuracy.

* * * * *

3. Section 2.106 is amended as follows:

a. Revise pages 22 through 75 of the Table.

b. In the list of International Footnotes under heading I, remove footnotes 5.120, 5.148, 5.333, and 5.551; add footnotes 5.457A, 5.457B, 5.504A, 5.504B, 5.504C, 5.506A, 5.506B, 5.508A, and 5.509A; and revise footnotes 5.505 and 5.508.

c. In the list of International Footnotes under heading II, remove footnotes 591, 599A, 599B, 608A, 608B, 647B, 669, and 792A.

d. In the list of United States (US) Footnotes, revise US7, US48, US78, US110, US217, US244, US246, US252, US258, US262, US276, US277, US278, US303, US310, US316, US320, US342, and US355; remove US10, US54, US228, US269, US318, US322, and US328; and add footnotes US384, US385, and US386.

e. In the list of Non-Federal Government (NG) Footnotes, remove NG23, NG47, NG63, NG101, and NG102; and revise NG41 and NG114.

f. In the list of Federal Government (G) Footnotes, revise footnote G2 and add footnote G129.

The revisions and additions read as follows:

§ 2.106 Table of Frequency Allocations.

* * * * *

BILLING CODE 6712-01-P

BILLING CODE 6712-01-C

* * * * *

International Footnotes

* * * * *

5.457A In the bands 5925-6425 MHz and 14-14.5 GHz, earth stations on board vessels may communicate with space stations of the fixed-satellite service. Such use shall be in accordance with Resolution 902 (WRC-03).

5.457B In the bands 5925-6425 MHz and 14-14.5 GHz, earth stations located on board vessels may operate with the characteristics and under the conditions contained in Resolution 902 (WRC-03) in Algeria, Saudi Arabia, Bahrain, Comoros, Djibouti, Egypt, United Arab Emirates, Jordan, Kuwait, Libyan Arab Jamahiriya, Morocco, Mauritania, Oman, Qatar, Syrian Arab Republic, Sudan, Tunisia and Yemen, in the maritime mobile-satellite service on a secondary basis. Such use shall be in accordance with Resolution 902 (WRC-03).

* * * * *

5.504A In the band 14-14.5 GHz, aircraft earth stations in the secondary aeronautical mobile-satellite service may also communicate with space stations in the fixed-satellite service. The provisions of Nos. 5.29, 5.30 and 5.31 apply.

5.504B Aircraft earth stations operating in the aeronautical mobile-satellite service in the band 14-14.5 GHz shall comply with the provisions of Annex 1, Part C of Recommendation ITU-R M.1643, with respect to any radio astronomy station performing observations in the 14.47-14.5 GHz band located on the territory of Spain, France, India, Italy, the United Kingdom and South Africa.

5.504C In the band 14-14.25 GHz, the power flux-density produced on the territory of the countries of Saudi Arabia, Botswana, Côte d'Ivoire, Egypt, Guinea, India, Iran, Kuwait, Lesotho, Nigeria, Oman, Syrian Arab Republic and Tunisia by any aircraft earth station in the aeronautical mobile-satellite service shall not exceed the limits given in Annex 1, Part B of Recommendation ITU-R M.1643, unless otherwise specifically agreed by the affected administration(s). The provisions of this footnote in no way derogate the obligations of the aeronautical mobile-satellite service to operate as a secondary service in accordance with No. 5.29.

5.505 Additional allocation: in Algeria, Angola, Saudi Arabia, Bahrain, Bangladesh, Botswana, Brunei Darussalam, Cameroon, China, Congo, Korea (Rep. of), Egypt, the United Arab Emirates, Gabon, Guatemala, Guinea, India, Indonesia, Iran (Islamic Republic of), Iraq, Israel, Japan, Jordan, Kuwait, Lesotho, Lebanon, Malaysia, Mali, Morocco, Mauritania, Oman, Pakistan, the Philippines, Qatar, Syrian Arab Republic, the Dem. People's Rep. of Korea, Singapore, Somalia, Sudan, Swaziland, Tanzania, Chad and Yemen, the band 14-14.3 GHz is also allocated to the fixed service on a primary basis.

* * * * *

5.506A In the band 14-14.5 GHz, ship earth stations with an e.i.r.p. greater than 21 dBW shall operate under the same conditions as earth stations located on board vessels, as provided in Resolution 902 (WRC-03). This footnote shall not apply to ship earth stations for which the complete Appendix 4 information has been received by the Radiocommunication Bureau prior to 5 July 2003.

5.506B Earth stations on board vessels communicating with space stations in the fixed-satellite service may operate in the frequency band 14-14.5 GHz without the need for prior agreement from Cyprus, Greece, and Malta within the minimum distance given in Resolution 902 (WRC-03) from these countries.

5.508 Additional allocation: in Germany, Bosnia and Herzegovina, France, Italy, The Former Yugoslav Republic of Macedonia, Libyan Arab Jamahiriya, the United Kingdom, Slovenia and Serbia and Montenegro, the band 14.25-14.3 GHz is also allocated to the fixed service on a primary basis.

5.508A In the band 14.25-14.3 GHz, the power flux-density produced on the territory of the countries of Saudi Arabia, Botswana, China, Côte d'Ivoire, Egypt, France, Guinea, India, Iran, Italy, Kuwait, Lesotho, Nigeria, Oman, Syrian Arab Republic, the United Kingdom and Tunisia by any aircraft earth station in the aeronautical mobile-satellite service shall not exceed the limits given in Annex 1, Part B of Recommendation ITU-R M.1643, unless otherwise specifically agreed by the affected administration(s). The provisions of this footnote in no way derogate the obligations of the aeronautical mobile-satellite service to operate as a secondary service in accordance with No. 5.29.

* * * * *

5.509A In the band 14.3-14.5 GHz, the power flux-density produced on the territory of the countries of Saudi Arabia, Botswana, Cameroon, China, Côte d'Ivoire, Egypt, France, Gabon, Guinea, India, Iran, Italy, Kuwait, Lesotho, Morocco, Nigeria, Oman, Syrian Arab Republic, the United Kingdom, Sri Lanka, Tunisia and Viet Nam by any aircraft earth station in the aeronautical mobile-satellite service shall not exceed the limits given in Annex 1, Part B of Recommendation ITU-R M.1643, unless otherwise specifically agreed by the affected administration(s). The provisions of this footnote in no way derogate the obligations of the aeronautical mobile-satellite service to operate as a secondary service in accordance with No. 5.29.

* * * * *

United States (US) Footnotes

* * * * *

US7 In the band 420-450 MHz and within the following areas, the peak envelope power output of a transmitter employed in the amateur service shall not exceed 50 watts, unless expressly authorized by the Commission after mutual agreement, on a case-by-case basis, between the Federal Communications Commission Engineer in Charge at the applicable district office and the military area frequency coordinator at the applicable military base. For areas (e) through (j), the appropriate military coordinator is located at Peterson AFB, CO.

(a) The entire State of New Mexico and Texas west of longitude 104° 00′ West;

(b) The entire State of Florida including the Key West area and the areas enclosed within a 322-kilometer (200-mile) radius of Patrick Air Force Base, Florida (latitude 28° 21′ North, longitude 80° 43′ West), and within a 322-kilometer (200-mile) radius of Eglin Air Force Base, Florida (latitude 30° 30′ North, longitude 86° 30′ West);

(c) The entire State of Arizona;

(d) Those portions of California and Nevada south of latitude 37° 10′ North, and the areas enclosed within a 322-kilometer (200-mile) radius of the Pacific Missile Test Center, Point Mugu, California (latitude 34° 09′ North, longitude 119° 11′ West).

(e) In the State of Massachusetts within a 160-kilometer (100-mile) radius around locations at Otis Air Force Base, Massachusetts (latitude 41° 45′ North, longitude 70° 32′ West).

(f) In the State of California within a 240-kilometer (150-mile) radius around locations at Beale Air Force Base, California (latitude 39° 08′ North, longitude 121° 26′ West).

(g) In the State of Alaska within a 160-kilometer (100-mile) radius of Clear, Alaska (latitude 64° 17′ North, longitude 149° 10′ West).

(h) In the State of North Dakota within a 160-kilometer (100-mile) radius of Concrete, North Dakota (latitude 48° 43′ North, longitude 97° 54′ West).

(i) In the States of Alabama, Georgia and South Carolina within a 200-kilometer (124-mile) radius of Warner Robins Air Force Base, Georgia (latitude 32° 38′ North, longitude 83° 35′ West).

(j) In the State of Texas within a 200-kilometer (124-mile) radius of Goodfellow Air Force Base, Texas (latitude 31° 25′ North, longitude 100° 24′ West).

* * * * *

US48 In the band 9000-9200 MHz, the use of the radiolocation service by non-Federal Government licensees may be authorized on the condition that harmful interference is not caused to the aeronautical radionavigation service or to the Federal Government radiolocation service.

* * * * *

US78 In the mobile service, the frequencies between 1435 and 1525 MHz will be assigned for aeronautical telemetry and associated telecommand operations for flight testing of manned or unmanned aircraft and missiles, or their major components. Permissible usage includes telemetry associated with launching and reentry into the Earth's atmosphere as well as any incidental orbiting prior to reentry of manned objects undergoing flight tests. The following frequencies are shared with flight telemetry mobile stations: 1444.5, 1453.5, 1501.5, 1515.5, and 1524.5 MHz.

* * * * *

US110 In the band 9200-9300 MHz, the use of the radiolocation service by non-Federal Government licensees may be authorized on the condition that harmful interference is not caused to the maritime radionavigation service or to the Federal Government radiolocation service.

* * * * *

US217 In the band 420-450 MHz, pulse-ranging radiolocation systems may be authorized for Federal and non-Federal Government use along the shorelines of the contiguous 48 States and Alaska. In the Sub-band 420-435 MHz, spread spectrum radiolocation systems may be authorized for Federal and non-Federal Government use within the contiguous 48 States and Alaska. All stations operating in accordance with this provision shall be secondary to stations operating in accordance with the Table of Frequency Allocations. Authorizations shall be granted on a case-by-case basis; however, operations proposed to be located within the following geographic areas should not expect to be accommodated:

(a) The entire State of New Mexico and Texas west of longitude 104° 00′ West;

(b) The entire State of Florida including the Key West area and the areas enclosed within a 322-kilometer (200-mile) radius of Patrick Air Force Base, Florida (latitude 28° 21′ North, longitude 80° 43′ West), and within a 322-kilometer (200-mile) radius of Eglin Air Force Base, Florida (latitude 30° 30′ North, longitude 86° 30′ West);

(c) The entire State of Arizona;

(d) Those portions of California and Nevada south of latitude 37° 10′ North, and the areas enclosed within a 322-kilometer (200-mile) radius of the Pacific Missile Test Center, Point Mugu, California (latitude 34° 09′ North, longitude 119° 11′ West).

(e) In the State of Massachusetts within a 160-kilometer (100-mile) radius around locations at Otis Air Force Base, Massachusetts (latitude 41° 45′ North, longitude 70° 32′ West).

(f) In the State of California within a 240-kilometer (150-mile) radius around locations at Beale Air Force Base, California (latitude 39° 08′ North, longitude 121° 26′ West).

(g) In the State of Alaska within a 160-kilometer (100-mile) radius of Clear, Alaska (latitude 64° 17′ North, longitude 149° 10′ West).

(h) In the State of North Dakota within a 160-kilometer (100-mile) radius of Concrete, North Dakota (latitude 48° 43′ North, longitude 97° 54′ West).

(i) In the States of Alabama, Georgia and South Carolina within a 200-kilometer (124-mile) radius of Warner Robins Air Force Base, Georgia (latitude 32° 38′ North, longitude 83° 35′ West).

(j) In the State of Texas within a 200-kilometer (124-mile) radius of Goodfellow Air Force Base, Texas (latitude 31° 25′ North, longitude 100° 24′ West).

* * * * *

US244 The band 136-137 MHz is allocated to the non-Federal Government aeronautical mobile (R) service on a primary basis, and is subject to pertinent international treaties and agreements. The frequencies 136, 136.025, 136.05, 136.075, 136.1, 136.125, 136.15, 136.175, 136.2, 136.225, 136.25, 136.275, 136.3, 136.325, 136.35, 136.375, 136.4, 136.425, 136.45, and 136.475 MHz are available on a shared basis to the Federal Aviation Administration for air traffic control purposes, such as automatic weather observation stations (AWOS), automatic terminal information services (ATIS), flight information services-broadcast (FIS-B), and airport control tower communications.

* * * * *

US246 No station shall be authorized to transmit in the following bands:

73-74.6 MHz,

608-614 MHz, except for medical telemetry equipment,¹

1400-1427 MHz,

1660.5-1668.4 MHz,

2690-2700 MHz,

4990-5000 MHz,

10.68-10.7 GHz,

15.35-15.4 GHz,

23.6-24 GHz,

31.3-31.8 GHz,

50.2-50.4 GHz,

52.6-54.25 GHz,

86-92 GHz,

100-102 GHz,

105-116 GHz,

164-168 GHz,

182-185 GHz,

217-231 GHz.

* * * * *

¹ Medical telemetry equipment shall not cause harmful interference to radio astronomy operations in the band 608-614 MHz and shall be coordinated under the requirements found in 47 CFR 95.1119.

US252 The bands 2110-2120 MHz and 7145-7190 MHz are also allocated for Earth-to-space transmissions in the space research service, limited to deep space communications at Goldstone, California.

* * * * *

US258 In the band 8025-8400 MHz, the Earth exploration-satellite service (space-to-Earth) is allocated on a primary basis for non-Federal Government use. Authorizations are subject to a case-by-case electromagnetic compatibility analysis.

* * * * *

US262 The use of the band 31.8-32.3 GHz by the space research service (deep space) (space-to-Earth) and of the band 34.2-34.7 GHz by the space research service (deep space) (Earth-to-space) are limited to Goldstone, California.

* * * * *

US276 Except as otherwise provided for herein, use of the band 2360-2385 MHz by the mobile service is limited to aeronautical telemetering and associated telecommand operations for flight testing of manned or unmanned aircraft, missiles or major components thereof. The following three frequencies are shared on a co-equal basis by Federal Government and non-Federal Government stations for telemetering and associated telecommand operations of expendable and reusable launch vehicles whether or not such operations involve flight testing: 2364.5 MHz, 2370.5 MHz, and 2382.5 MHz. All other mobile telemetering uses shall be secondary to the above uses.

US277 The band 10.6-10.68 GHz is also allocated on a primary basis to the radio astronomy service. However, the radio astronomy service shall not receive protection from stations in the fixed service which are licensed to operate in the one hundred most populous urbanized areas as defined by the 1990 U.S. Census. For the list of observatories operating in this band see 47 CFR 2.106, footnote US355.

US278 In the bands 22.55-23.55 GHz and 32.3-33 GHz, non-geostationary inter-satellite links may operate on a secondary basis to geostationary inter-satellite links.

* * * * *

US303 In the band 2285-2290 MHz, non-Federal government space stations in the space research, space operations and Earth exploration-satellite services may be authorized to transmit to the Tracking and Data Relay Satellite System subject to such conditions as may be applied on a case-by-case basis. Such transmissions shall not cause harmful interference to authorized Federal Government stations. The power flux density at the Earth's surface from such non-Federal Government stations shall not exceed -144 to -154 dBW/m²/4 kHz, depending on angle of arrival, in accordance with ITU Radio Regulation 21.16.

* * * * *

US310 In the band 14.896-15.121 GHz, non-Federal Government space stations in the space research service may be authorized on a secondary basis to transmit to Tracking and Data Relay Satellites subject to such conditions as may be applied on a case-by-case basis. Such transmissions shall not cause harmful interference to authorized Federal Government stations. The power flux-density produced by such non-Federal Government stations at the Earth's surface in any 4 kHz band for all conditions and methods of modulation shall not exceed:

−148 dB(W/m²) for 0° <θ≤ 5°

−148 + (θ≤5)/2dB(W/m²) for 5° <θ≤ 25°

−138 dB(W/m²) for 25° <θ≤ 90°

where θ is the angle of arrival of the radio-frequency wave (degrees above the horizontal). These limits relate to the power flux-density and angles of arrival which would be obtained under free-space propagation conditions.

* * * * *

US316 The band 2900-3000 MHz is also allocated on a primary basis to the meteorological aids service. Operations in this service are limited to Federal Government Next Generation Weather Radar (NEXRAD) systems where accommodation in the 2700-2900 MHz band is not technically practical and are subject to coordination with existing authorized stations.

* * * * *

US320 The use of the bands 137-138 MHz, 148-150.05 MHz, and 400.15-401 MHz by the mobile-satellite service is limited to non-voice, non-geostationary satellite systems and may include satellite links between land earth stations at fixed locations.

* * * * *

US342 In making assignments to stations of other services to which the bands:

13360-13410 kHz, | 14.47-14.5 GHz, | 145.45-145.75 GHz,
25550-25670 kHz, | 22.01-22.21 GHz, | 146.82-147.12 GHz,
37.5-38.25 MHz, | 22.21-22.5 GHz, | 150-151 GHz,
322-328.6 MHz, | 22.81-22.86 GHz, | 174.42-175.02 GHz,
1330-1400 MHz, | 23.07-23.12 GHz, | 177-177.4 GHz,
1610.6-1613.8 MHz, | 31.2-31.3 GHz, | 178.2-178.6 GHz,
1660-1660.5 MHz, | 36.43-36.5 GHz, | 181-181.46 GHz,
1668.4-1670 MHz, | 42.5-43.5 GHz, | 186.2-186.6 GHz,
3260-3267 MHz, | 48.94-49.04 GHz, | 250-251 GHz,
3332-3339 MHz, | 93.07-93.27 GHz, | 257.5-258 GHz,
3345.8-3352.5 MHz, | 97.88-98.08 GHz, | 261-265 GHz,
4825-4835 MHz, | 140.69-140.98 GHz, | 262.24-262.76 GHz,
4950-4990 MHz, | 144.68-144.98 GHz, | 265-275 GHz
6650-6675.2 MHz,

are allocated, all practicable steps shall be taken to protect the radio astronomy service from harmful interference. Emissions from spaceborne or airborne stations can be particularly serious sources of interference to the radio astronomy service (see Nos. 4.5 and 4.6 and Article 29 of the ITU Radio Regulations).

* * * * *

US355 In the band 10.7-11.7 GHz, non-geostationary satellite orbit licensees in the fixed-satellite service (space-to-Earth), prior to commencing operations, shall coordinate with the following radio astronomy observatories to achieve a mutually acceptable agreement regarding the protection of the radio telescope facilities operating in the band 10.6-10.7 GHz:

Observatory | West longitude | North latitude | Elevation (in meters)
Arecibo Observatory | 66°45′11″ | 18°20′46″ | 496
Green Bank Telescope (GBT) | 79°50′24″ | 38°25′59″ | 825
Very Large Array (VLA) | 107°37′04″ | 34°04′44″ | 2126
Very Long Baseline Array (VLBA) Stations:
Brewster, WA | 119°40′55″ | 48°07′53″ | 255
Fort Davis, TX | 103°56′39′ | 30°38′06″ | 1615
Hancock, NH | 71°59′12″ | 42°56′01″ | 309
Kitt Peak, AZ | 111°36′42″ | 31°57′22″ | 1916
Los Alamos, NM | 106°14′42″ | 35°46′30″ | 1967
Mauna Kea, HI | 155°27′29″ | 19°48′16″ | 3720
North Liberty, IA | 91°34′26″ | 41°46′17″ | 241
Owens Valley, CA | 118°16′34″ | 37°13′54″ | 1207
Pie Town, NM | 108°07′07″ | 34°18′04″ | 2371
St. Croix, VI | 64°35′03″ | 17°45′31″ | 16

* * * * *

US384 In the band 401-403 MHz, the non-Federal Government Earth exploration-satellite (Earth-to-space) and meteorological-satellite (Earth-to-space) services are limited to earth stations transmitting to Federal Government space stations.

US385 The band 1164-1215 MHz is also allocated to the radionavigation-satellite service (space-to-Earth, space-to-space) on a primary basis. In this band, stations in the radionavigation-satellite service shall not cause harmful interference to, nor claim protection from, stations of the aeronautical radionavigation service.

US386 In designing systems for the inter-satellite service in the band 32.3-33 GHz, for the radionavigation service in the band 32-33 GHz, and for the space research service (deep space) (space-to-Earth) in the band 31.8-32.3 GHz, all necessary measures shall be taken to prevent harmful interference between these services, bearing in mind the safety aspects of the radionavigation service.

* * * * *

Non-Federal Government (NG) Footnotes

* * * * *

NG41 Frequencies in the bands 3700-4200 MHz and 5925-6425 MHz, may also be assigned to stations in the international fixed public and international control services located in Puerto Rico, the U.S. Virgin Islands, and Navassa Island.

* * * * *

NG114 In the Gulf of Mexico offshore from the Louisiana-Texas coast, the band 476-494 MHz (TV channels 15, 16 and 17) is allocated to the Public Mobile and Private Land Mobile Radio Services in accordance with the regulations set forth in 47 C.F.R. parts 22 and 90, respectively.

* * * * *

Federal Government (G) Footnotes

* * * * *

G2 In the bands 216-225, 420-450 (except as provided by US217 and G129), 890-902, 928-942, 1300-1400, 2310-2385, 2417-2450, 2700-2900, 5650-5925 and 9000-9200 MHz, the Federal Government radiolocation service is limited to the military services.

* * * * *

G129 Federal Government wind profilers are authorized to operate on a primary basis in the radiolocation service in the frequency band 448-450 MHz with an authorized bandwidth of no more than 2 MHz centered on 449 MHz, subject to the following conditions: (1) wind profiler locations must be pre-coordinated with the military services to protect fixed military radars; and (2) wind profiler operations shall not cause harmful interference to, nor claim protection from, military mobile radiolocation stations that are engaged in critical national defense operations.

PART 25—SATELLITE COMMUNICATIONS

4. The authority citation for part 25 continues to read as follows:

Authority: 47 U.S.C. 701-744. Interprets or applies Sections 4, 301, 302, 303, 307, 309 and 332 of the Communications Act, as amended, 47 U.S.C. Sections 154, 301, 302, 303, 307, 309 and 332, unless otherwise noted.

5. Section 25.202(a)(3) is revised and paragraph 25.202(a)(4)(iii) is added to read as follows:

§ 25.202 Frequencies, frequency tolerance and emission limitations.

(a) * * *

(3) The following frequencies are available for use by the non-voice, non-geostationary mobile-satellite service:

137-138 MHz: Space-to-Earth

148-150.05 MHz: Earth-to-space

399.9-400.05 MHz: Earth-to-space

400.15-401 MHz: Space-to-Earth

(4) * * *

(iii)(A) The following frequencies are available for use by the L-band Mobile-Satellite Service:

1525-1559 MHz: Space-to-Earth

1626.5-1660.5 MHz: Earth-to-space

(B) The use of the frequencies 1544-1545 MHz and 1645.5-1646.5 MHz is limited to distress and safety communications.

* * * * *

PART 87—AVIATION SERVICES

6. The authority citation for part 87 continues to read as follows:

Authority: 47 U.S.C. 154, 303 and 307(e), unless otherwise noted.

7. Section 87.303 is amended by revising paragraph (d)(1) to read as follows:

§ 87.303 Frequencies.

* * * * *

(d)(1) Frequencies in the bands 1435-1525 MHz and 2360-2385 MHz are assigned primarily for telemetry and telecommand operations associated with the flight testing of manned or unmanned aircraft and missiles, or their major components. The bands 2310-2320 MHz and 2345-2360 MHz are also available for these purposes on a secondary basis. Until January 1, 2007, flight test operations in the band 2385-2390 MHz may continue on a primary basis within 160 km of the nine sites listed in 47 CFR 2.106, footnote US363. Permissible uses of these bands include telemetry and telecommand transmissions associated with the launching and reentry into the Earth's atmosphere, as well as any incidental orbiting prior to reentry, of manned or unmanned objects undergoing flight tests. In the band 1435-1530 MHz, the following frequencies are shared with flight telemetry mobile stations: 1444.5, 1453.5, 1501.5, 1515.5, 1524.5, and 1525.5 MHz. In the band 2360-2390 MHz, the following frequencies may be assigned on a co-equal basis for telemetry and associated telecommand operations in fully operational or expendable and re-usable launch vehicles, whether or not such operations involve flight testing: 2364.5, 2370.5 and 2382.5 MHz. In the band 2360-2390 MHz, all other mobile telemetry uses are secondary to the above stated launch vehicle uses.

* * * * *

[FR Doc. 03-31256 Filed 12-22-03; 8:45 am]

BILLING CODE 6712-01-P